DEPARTMENT OF AGRICULTURE

Rural Utilities Service

Announcement of Funding Availability, Loan Application Procedures, and Deadlines for the Rural Energy Savings Program (RESP)

AGENCY: Rural Utilities Service, USDA.

ACTION: Notice of Solicitation of Applications (NOSA).

SUMMARY: The Rural Utilities Service (RUS), an Agency of the United States Department of Agriculture (USDA), is soliciting letters of intent for loan applications under the Rural Energy Savings Program (RESP), announcing the application process for those loans and deadlines for applications from eligible entities for funding in fiscal year (FY) 2020, until expended or further notice.

DATES: To be considered for this funding, applications under this NOSA will be accepted immediately. The RESP application process is described in detail pursuant to 7 CFR part 1719. In brief, the RESP is comprised of two steps:

Step 1: To be considered for financing, an Applicant seeking financing must submit a Letter of intent, in an electronic PDF (PDF) format not to exceed 10 Megabytes (10 MB) by electronic mail (email) to RESP@USDA.GOV. No paper letters of intent will be accepted. The Letters of intent will be queued as they are received. If it advances program and policy goals, RUS may consider loan applications from Eligible entities that have submitted Letters of intent under prior funding announcements but were not invited to proceed with a loan application.

Step 2: A RESP applicant that has been invited in writing by RUS to proceed with the loan application, will have up to ninety (90) days to complete and submit to RUS the documentation for a complete loan application. The ninety (90) day timeframe will begin on the date the RESP applicant receives RUS' Invitation to proceed. If the deadline to submit the completed loan application falls on Saturday, Sunday, or a Federal holiday, the application is due the next business day. The loan application package must be marked with the subject line “Attention: Christopher McLean, Assistant Administrator for the Electric Program; RESP Loan Application.”

FOR FURTHER INFORMATION CONTACT: Robert Coates, Electric Program, Rural Utilities Service, Rural Development, United States Department of Agriculture, 1400 Independence Avenue SW, STOP 1568, Room 0257-S, Washington, DC 20250-1510; Telephone: (202) 260-5415; Email: Robert.Coates@usda.gov.

SUPPLEMENTARY INFORMATION: Authority: These loans are made available under the authority of Section 6407 of the Farm Security and Rural Investment Act of 2002, as amended, and the Rural Electrification Act of 1936, 7 U.S.C. 901 et seq.

General Information

The purpose of the RESP is to help rural families and small businesses achieve cost savings by providing loans to qualified consumers through eligible entities to implement durable cost-effective energy efficiency measures pursuant to 7 U.S.C. 8107a(a) of the RESP authorizing statute. The Secretary may use this funding to allow eligible entities to offer energy efficiency loans to customers in any part of their service territory in accordance to § 7 CFR part 1719. The Administrator may approve loans proposing to include these eligible activities for entities currently in the queue provided they still meet all of the application requirements. Additionally, subject to appropriations, funding for projects may be used to replace manufactured housing units with another manufactured housing unit if the replacement would be more cost effective in saving energy.

The Agency encourages applications that will support recommendations made in the Rural Prosperity Task Force report to help improve life in rural America, See, www.usda.gov/ruralprosperity. Applicants are encouraged to consider projects that provide measurable results in helping rural communities build robust and sustainable economies through strategic investments in infrastructure, partnerships and innovation. Key strategies include: Achieving e-Connectivity for rural America, developing the rural economy, harnessing technological innovation, supporting a rural workforce, and improving quality of life.

Application and Submission Information

Application Requirements: All requirements for submission of an application under the RESP are subject to 7 CFR part 1719.

Application Materials/Submission: The Letter of intent must be submitted by the Applicant in an electronic PDF (PDF) format not to exceed 10 Megabytes (10 MB) by electronic mail (email) to RESP@USDA.GOV. No paper letters of intent will be accepted. The completed loan application package must be submitted following the instructions that will be outlined in the RUS Invitation to proceed to the RESP Applicant. The loan application package must be marked with the subject line “Attention: Christopher McLean, Assistant Administrator for the Electric Program; RESP Loan Application.

Paperwork Reduction Act

In accordance with the Paperwork Reduction Act of 1995 (44 U.S.C. chapter 35), OMB approved this information collection under OMB Control Number 0572-0151. This NOSA contains no new reporting or recordkeeping burdens under OMB control number 0572-0151 that would require approval under the Paperwork Reduction Act of 1995 (44 U.S.C. Chapter 35).

USDA Non-Discrimination Statement

In accordance with Federal civil rights law and USDA civil rights regulations and policies, the USDA, its agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs).

Remedies and complaint filing deadlines vary by program or incident. Persons with disabilities who require alternative means of communication for program information (e.g., Braille, large print, audiotape, American Sign Language, etc.) should contact the Agency or USDA's TARGET Center at (202) 720-2600 (voice and TTY) or contact USDA through the Federal Relay Service at (800) 877-8339 (English) or (800) 845-6136 (Spanish).

Individuals who wish to file a Program Discrimination Complaint must complete the USDA Program Discrimination Complaint Form (PDF). To file a program discrimination complaint, you may obtain a complaint form by sending an email to Cr-info@ascr.usda.gov or calling (866) 632-9992 to request the form. A letter may also be written containing all of the information requested in the form. Send the completed complaint form or letter by mail to the U.S. Department of Agriculture, Director, Office of Adjudication, 1400 Independence Avenue SW, Washington, DC 20250-9410, or email at program.intake@usda.gov. Additional information can be found online at https://www.ascr.usda.gov/filing-programdiscrimination-complaint-usdacustomer.

USDA is an equal opportunity provider, employer, and lender.

Chad Rupe,
Administrator, Rural Utilities Service.

[FR Doc. 2020-06341 Filed 4-1-20; 8:45 am]

BILLING CODE P